DEPARTMENT OF EDUCATION

[Docket No.: ED-2021-SCC-0111]

Agency Information Collection Activities; Comment Request; Implementation of Title I/II-A Program Initiatives—Preliminary Activities

AGENCY: Institute of Educational Science (IES), Department of Education (ED).

ACTION: Notice.

SUMMARY: In accordance with the Paperwork Reduction Act of 1995, ED is proposing a new information collection.

DATES: Interested persons are invited to submit comments on or before September 24, 2021.

ADDRESSES: To access and review all the documents related to the information collection listed in this notice, please use http://www.regulations.gov by searching the Docket ID number ED-2021-SCC-0111. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the PRA Coordinator of the Strategic Collections and Clearance Governance and Strategy Division, U.S. Department of Education, 400 Maryland Ave. SW, LBJ, Room 6W208C, Washington, DC 20202-8240.

FOR FURTHER INFORMATION CONTACT: For specific questions related to collection activities, please contact Erica Johnson, 202-245-7676.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Implementation of Title I/II-A Program Initiatives—Preliminary Activities.

OMB Control Number: 1850-NEW.

Type of Review: A new information collection.

Respondents/Affected Public: State, Local, and Tribal Governments.

Total Estimated Number of Annual Responses: 92.

Total Estimated Number of Annual Burden Hours: 15.

Abstract: When the primary federal law governing K-12 schooling was updated in 2015 as the Every Student Succeeds Act (ESSA), it shifted many decisions to states and districts. However, through two of its core programs (Title I and Title II-A), ESSA retained federal requirements for states to set challenging content standards, assess student performance, identify and support low-performing schools, and promote the development of the educator workforce. How states and districts respond to the combination of flexibility and requirements and how policies are enacted in schools and classrooms will determine whether ESSA stimulates educational improvement as intended, which is particularly important in the wake of educational disruptions wrought by the coronavirus pandemic.

This is the first of two clearance requests. This first package requests clearance to inform school districts of the study and collect teacher lists for the purpose of preparing to conduct a nationally representative survey in spring 2022. The second package, to be submitted at a later date, will request clearance for state, district, principal, and teacher survey instruments and the collection of these data.

Dated: July 21, 2021.
Juliana Pearson,
PRA Coordinator, Strategic Collections and Clearance, Governance and Strategy Division, Office of Chief Data Officer, Office of Planning, Evaluation and Policy Development.

[FR Doc. 2021-15879 Filed 7-23-21; 8:45 am]

BILLING CODE 4000-01-P